DEPARTMENT OF THE INTERIOR

Bureau of Ocean Energy Management

[Docket No. BOEM-2015-0094;MMAA104000]

Outer Continental Shelf, Gulf of Mexico, Oil and Gas Western Planning Area Lease Sale 248

AGENCY: Bureau of Ocean Energy Management (BOEM), Interior.

ACTION: Notice of Availability and Announcement of Public Meetings and Comment Period for the Draft Supplemental Environmental Impact Statement for Proposed Gulf of Mexico Oil and Gas Western Planning Area Lease Sale 248.

SUMMARY: BOEM is announcing the availability of a Draft Supplemental Environmental Impact Statement (EIS) for the proposed Gulf of Mexico (GOM) Outer Continental Shelf (OCS) oil and gas Western Planning Area (WPA) Lease Sale 248 (WPA Sale 248). WPA Sale 248 is tentatively scheduled for August 2016. The Draft Supplemental EIS provides a discussion of the potential significant impacts of the proposed action and an analysis of reasonable alternatives to the proposed action; it considers new information made available since completion of earlier EISs related to WPA Sale 248. The prior EISs supplemented by the Draft Supplemental EIS are available at: http://www.boem.gov/nepaprocess/. This Notice of Availability (NOA) serves to announce the beginning of the public comment period for the Draft Supplemental EIS.

Public Availability: In keeping with the Department of the Interior's mission to protect natural resources and to limit costs, while ensuring availability of the document to the public, the Draft Supplemental EIS and associated information are available on BOEM's Web site at http://www.boem.gov/nepaprocess/. BOEM will also distribute digital copies of the Draft Supplemental EIS on compact discs. You may request a paper copy or the location of a library with a digital copy of the Draft Supplemental EIS from the Bureau of Ocean Energy Management, Gulf of Mexico OCS Region, Public Information Office (GM 250C), 1201 Elmwood Park Boulevard, Room 250, New Orleans, Louisiana 70123-2394 (1-800-200-GULF).

DATES: Comments should be submitted no later than October 19, 2015. As described below in the “Comments” section, public comments may also be submitted at public meetings being held on September 22 and 23, 2015.

FOR FURTHER INFORMATION CONTACT: For more information on the WPA 248 Draft Supplemental EIS, you may contact Mr. Gary D. Goeke, Bureau of Ocean Energy Management, Gulf of Mexico OCS Region, Office of Environment (GM 623E), 1201 Elmwood Park Boulevard, New Orleans, Louisiana 70123-2394, or by email at wpa248@boem.gov. You may also contact Mr. Goeke by telephone at 504-736-3233.

Comments: Federal, State, Tribal, and local governments and/or agencies and the public (including persons and organizations who may be interested or affected) may submit written comments on the WPA 248 Draft Supplemental EIS through the following methods:

1. Federal eRulemaking Portal: http://www.regulations.gov. In the field “Enter Keyword or ID” enter “Oil and Gas Lease Sales: Gulf of Mexico, Outer Continental Shelf; Western Planning Area Lease Sale 248” (note: it is important to include the quotation marks in your search terms), and then click “search”. Follow the instructions to submit public comments and view supporting and related materials available for this notice;

2. U.S. mail, in an envelope labeled “Comments for the Draft WPA 248 Supplemental EIS” and addressed to Mr. Gary D. Goeke, Chief, Environmental Assessment Section, Office of Environment (GM 623E), Bureau of Ocean Energy Management, Gulf of Mexico OCS Region, 1201 Elmwood Park Boulevard, New Orleans, Louisiana 70123-2394. To be considered, comments must be postmarked by the last day of the comment period provided in the “Dates” section above; or

3. Email to: wpa248@boem.gov.

BOEM will also hold public meetings to solicit comments regarding the WPA 248 Draft Supplemental EIS. The meetings are scheduled as follows:

Houston, Texas: Tuesday September 22, 2015, Hilton Garden Inn Houston/Bush Intercontinental Airport, 15400 John F. Kennedy Boulevard, Houston, Texas 77032, one meeting beginning at 1:00 p.m. CDT.

New Orleans, Louisiana: Wednesday, September 23, 2015, Bureau of Ocean Energy Management, Gulf of Mexico OCS Region, 1201 Elmwood Park Boulevard, New Orleans, Louisiana 70123, one meeting beginning at 1:00 p.m. CDT.

Public Disclosure of Names and Addresses: Before including your address, phone number, email address, or other personal identifying information in your comment, you should be aware that your entire comment—including your personal identifying information—may be made publicly available at any time. While you can ask us in your comment to withhold your personal identifying information from public review, we cannot guarantee that we will be able to do so.

Authority: This NOA is consistent with the National Environmental Policy Act of 1969, as amended (42 U.S.C. 4321 et seq.) (NEPA) and the regulations implementing NEPA, and is published pursuant to 43 CFR 46.415 and 46.435.

Dated: August 17, 2015.
Abigail Ross Hopper,
Director, Bureau of Ocean Energy Management.

[FR Doc. 2015-22071 Filed 9-3-15; 8:45 am]

BILLING CODE 4310-MR-P